DEPARTMENT OF THE INTERIOR

National Park Service

[NPS-WASO-NAGPRA-NPS0039486; PPWOCRADN0-PCU00RP14.R50000]

Notice of Inventory Completion: Mütter Museum of the College of Physicians of Philadelphia, Philadelphia, PA

AGENCY: National Park Service, Interior.

ACTION: Notice.

SUMMARY: In accordance with the Native American Graves Protection and Repatriation Act (NAGPRA), the Mütter Museum of the College of Physicians of Philadelphia has completed an inventory of human remains and has determined that there is a cultural affiliation between the human remains and Indian Tribes or Native Hawaiian organizations in this notice.

DATES: Repatriation of the human remains in this notice may occur on or after April 17, 2025.

ADDRESSES: Kate Quinn, Executive Director, Mütter Museum and Historic Medical Library, College of Physicians of Philadelphia, 19 S 22nd Street, Philadelphia, PA 19103, telephone (215) 399-2336, email kquinn@collegeofphysicians.org.

SUPPLEMENTARY INFORMATION: This notice is published as part of the National Park Service's administrative responsibilities under NAGPRA. The determinations in this notice are the sole responsibility of the Mütter Museum of the College of Physicians of Philadelphia, and additional information on the determinations in this notice, including the results of consultation, can be found in its inventory or related records. The National Park Service is not responsible for the determinations in this notice.

Abstract of Information Available

Human remains representing, at least, three individuals have been identified. No associated funerary objects are present. The human remains consist of a radius (1277.24) belonging to one individual and a cranium (1006.143) belonging to another. A placenta belonging to a third individual was used to create a corrosion preparation (1090.7512). (Corrosion preparations are ones in which the vasculature of an organ has been injected with a wax-like substance and the biological material then corroded away with an acidic material to leave the wax-like substance. Although some microscopic biological material may adhere to the wax, such preparations have been considered representations of biological material made from a non-biological substance.) Dr. James Ewing Mears donated the radius and cranium to the museum. The date of donation is unknown, but Mears was a fellow of the College from 1868 until his death in 1919. The placenta from which the corrosion was created was donated by a Dr. Strangerwald [sometimes written Strangerwold] to the Austrian physician Josef Hyrtl, who prepared the corrosion. The Mütter Museum purchased 24 placental corrosions, including this one, from Hyrtl in 1874. Records indicate that the radius (1277.24) was removed from “an ancient graveyard” near Honolulu and that the cranium (1006.143) was from Oahu. No location is available for the placenta used to create the corrosion preparation (1090.7512), but the placenta was indicated to be from a South Sea Islander and the doctor who donated the placenta to Josef Hyrtl resided in Hawaii. No associated funerary objects are present.

Cultural Affiliation

Based on the information available and the results of consultation, cultural affiliation is clearly identified by the information available about the human remains described in this notice.

Determinations

The Mütter Museum of the College of Physicians of Philadelphia has determined that:

• The human remains described in this notice represent the physical remains of three individuals of Native Hawaiian ancestry.

• There is a connection between the human remains described in this notice and the Hui Iwi Kuamo'o.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 17, 2025. If competing requests for repatriation are received, the Mütter Museum of the College of Physicians of Philadelphia must determine the most appropriate requestor prior to repatriation. Requests for joint repatriation of the human remains are considered a single request and not competing requests. The Mütter Museum of the College of Physicians of Philadelphia is responsible for sending a copy of this notice to the Indian Tribes and Native Hawaiian organizations identified in this notice.

Authority: Native American Graves Protection and Repatriation Act, 25 U.S.C. 3003, and the implementing regulations, 43 CFR 10.10.

Dated: February 4, 2025.
Melanie O'Brien,
Manager, National NAGPRA Program.

[FR Doc. 2025-04374 Filed 3-17-25; 8:45 am]

BILLING CODE 4312-52-P